AGENCY FOR INTERNATIONAL DEVELOPMENT

Food Security Advisory Committee; Board for International Food and Agricultural Development; One Hundred and Thirty Fourth Meeting; Notice of Meeting

Pursuant to the Federal Advisory Committee Act, notice is hereby given of the meeting of the Food Security Advisory Committee (FSAC). The meeting will be held from 8:30 a.m. to 5:00 p.m. on March 28th, 2001 in the NASULGC Meeting Room, 1307 New York Avenue, NW, Washington, DC.

The agenda calls for FSAC to review options for recommendation to the Interagency Working Group (IWG) on Food Security regarding priorities for use in developing the U.S. position for the World Food Summit Plus Five (WFS+5). The Committee will also review important opportunities to promote food security and adopt a strategy to expand public and private sector contributions to domestic and international food security.

Those wishing to attend the meeting, or to obtain additional information about FSAC, should contact Ms. Jennifer J. Douglas, the Designated Federal Officer for FSAC, in care of the U.S. Agency for International Development, Ronald Reagan Building, Office of Agriculture and Food Security, 1300 Pennsylvania Avenue, NW., Room 2.11-061, Washington, DC 20523-2110 or telephone her at (202) 712-1687 or fax (202) 216-3060.

Jennifer J. Douglas,
USAID Designated Federal Officer for FSAC, Office of Agriculture and Food Security, Economic Growth Center, Bureau for Global Programs.

[FR Doc. 01-6649 Filed 3-16-01; 8:45 am]

BILLING CODE 6116-01-M